DEPARTMENT OF TRANSPORTATION

Federal Aviation Administration

14 CFR Part 39

[Docket No. FAA-2022-0885; Project Identifier MCAI-2021-01429-T]

RIN 2120-AA64

Airworthiness Directives; MHI RJ Aviation ULC (Type Certificate Previously Held by Bombardier, Inc.) Airplanes

AGENCY: Federal Aviation Administration (FAA), DOT.

ACTION: Notice of proposed rulemaking (NPRM).

SUMMARY: The FAA proposes to adopt a new airworthiness directive (AD) for all MHI RJ Aviation ULC Model CL-600-2C10 (Regional Jet Series 700, 701 & 702); CL-600-2C11 (Regional Jet Series 550); CL-600-2D15 (Regional Jet Series 705); CL-600-2D24 (Regional Jet Series 900); and CL-600-2E25 (Regional Jet Series 1000) airplanes. This proposed AD was prompted by reports that the landing gear age of certain airplanes was higher than expected for gear overhaul, which could increase the risk of corrosion. This proposed AD would require verifying the calendar age of the nose landing gear (NLG) and main landing gear (MLG) by way of component maintenance documents, and performing corrective actions if necessary. This proposed AD would also prohibit installing certain components. The FAA is proposing this AD to address the unsafe condition on these products.

DATES: The FAA must receive comments on this proposed AD by September 6, 2022.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact MHI RJ Aviation Group, Customer Response Center, 3655 Ave. des Grandes-Tourelles, Suite 110, Boisbriand, Québec J7H 0E2 Canada; North America toll-free telephone 833-990-7272 or direct-dial telephone 450-990-7272; fax 514-855-8501; email thd.crj@mhirj.com; internet https://mhirj.com. You may view this service information at the FAA, Airworthiness Products Section, Operational Safety Branch, 2200 South 216th St., Des Moines, WA. For information on the availability of this material at the FAA, call 206-231-3195.

Examining the AD Docket

You may examine the AD docket at https://www.regulations.gov by searching for and locating Docket No. FAA-2022-0885; or in person at Docket Operations between 9 a.m. and 5 p.m., Monday through Friday, except Federal holidays. The AD docket contains this NPRM, any comments received, and other information. The street address for Docket Operations is listed above.

FOR FURTHER INFORMATION CONTACT: Antariksh Shetty, Aerospace Engineer, Airframe and Propulsion Section, FAA, New York ACO Branch, 1600 Stewart Avenue, Suite 410, Westbury, NY 11590; telephone 516-228-7300; email 9-avs-nyaco-cos@faa.gov.

SUPPLEMENTARY INFORMATION:

Comments Invited

The FAA invites you to send any written relevant data, views, or arguments about this proposal. Send your comments to an address listed under ADDRESSES. Include “Docket No. FAA-2022-0885; Project Identifier MCAI-2021-01429-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Antariksh Shetty, Aerospace Engineer, Airframe and Propulsion Section, FAA, New York ACO Branch, 1600 Stewart Avenue, Suite 410, Westbury, NY 11590; telephone 516-228-7300; email 9-avs-nyaco-cos@faa.gov. Any commentary that the FAA receives which is not specifically designated as CBI will be placed in the public docket for this rulemaking.

Background

Transport Canada Civil Aviation (TCCA), which is the aviation authority for Canada, has issued TCCA AD CF-2021-49, dated December 20, 2021 (TCCA AD CF-2021-49) (also referred to after this as the Mandatory Continuing Airworthiness Information, or the MCAI), to correct an unsafe condition for all MHI RJ Aviation ULC Model CL-600-2C10 (Regional Jet Series 700, 701 & 702); CL-600-2C11 (Regional Jet Series 550); CL-600-2D15 (Regional Jet Series 705); CL-600-2D24 (Regional Jet Series 900); and CL-600-2E25 (Regional Jet Series 1000) airplanes. You may examine the MCAI in the AD docket at https://www.regulations.gov by searching for and locating Docket No. FAA-2022-0885.

This proposed AD was prompted by reports that the landing gear age of certain airplanes was higher than expected for gear overhaul. The FAA is proposing this AD to address the possibility of undetected corrosion due to landing gear age that could lead to MLG and/or NLG collapse, and consequent damage to the airplane and injury to the occupants. See the MCAI for additional background information.

Related Service Information Under 1 CFR Part 51

MHI RJ has issued SB 670BA-32-062, dated December 2, 2021. This service information describes procedures for, among other actions, verifying the calendar age of the NLG and MLG by way of component maintenance documents and for removing affected landing gear components and replacing them with serviceable components.

This service information is reasonably available because the interested parties have access to it through their normal course of business or by the means identified in the ADDRESSES section.

FAA's Determination

This product has been approved by the aviation authority of another country, and is approved for operation in the United States. Pursuant to the FAA's bilateral agreement with the State of Design Authority, the FAA has been notified of the unsafe condition described in the MCAI and service information referenced above. The FAA is proposing this AD because the FAA evaluated all the relevant information and determined the unsafe condition described previously is likely to exist or develop on other products of the same type design.

Proposed AD Requirements in This NPRM

This proposed AD would require accomplishing the actions specified in the service information already described except as discussed under “Differences Between this Proposed AD and the MCAI.” This proposed AD would also prohibit installing certain affected parts.

Differences Between This Proposed AD and the MCAI

TCCA AD CF-2021-49 requires the replacement of affected components with a calendar age of 10 years or more. However, this proposed AD also includes affected components with a calendar age of less than 10 years. MHI RJ Aviation ULC intends to revise Part 1 of the maintenance requirements manual (MRM) for the affected components to include a calendar age life limit in addition to the existing flight cycle life limit. TCCA then plans to issue an AD to enforce the calendar age life limit in the revised MRM, which would address the unsafe condition for components with a calendar age of less than 10 years for Canadian operators. However, for U.S. operators, affected components with a calendar age of less than 10 years may reach the new calendar age life limit before an FAA AD is issued to mandate the revised MRM once it is available. Therefore, components with a calendar age of less than 10 years are included in this proposed AD.

Costs of Compliance

The FAA estimates that this AD, if adopted as proposed, would affect 624 airplanes of U.S. registry. The FAA estimates the following costs to comply with this proposed AD:

Estimated Costs for Required Actions
Labor cost | Parts cost | Cost per product | Cost on U.S. operators
4 work-hours × $85 per hour = $340 | $0 | $340 | $212,160

The FAA estimates the following costs to do any necessary on-condition actions that would be required based on the results of any required actions. The FAA has no way of determining the number of aircraft that might need these on-condition actions:

Estimated Costs of On-Condition Actions
Labor cost | Parts cost | Cost per product
Up to 32 work-hours × $85 per hour = Up to $2,720 | Up to $340,000 | Up to $342,720.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

MHI RJ Aviation ULC (Type Certificate Previously Held by Bombardier, Inc.): Docket No. FAA-2022-0885; Project Identifier MCAI-2021-01429-T.

(a) Comments Due Date

The FAA must receive comments on this airworthiness directive (AD) by September 6, 2022.

(b) Affected ADs

None.

(c) Applicability

This AD applies to all MHI RJ Aviation ULC airplanes identified in paragraphs (c)(1) through (5) of this AD, certificated in any category.

(1) Model CL-600-2C10 (Regional Jet Series 700, 701, & 702).

(2) Model CL-600-2C11 (Regional Jet Series 550).

(3) Model CL-600-2D15 (Regional Jet Series 705).

(4) Model CL-600-2D24 (Regional Jet Series 900).

(5) Model CL-600-2E25 (Regional Jet Series 1000) airplanes.

(d) Subject

Air Transport Association (ATA) of America Code 32, Landing gear.

(e) Unsafe Condition

This AD was prompted by reports that the landing gear age of certain airplanes was higher than expected for gear overhaul. The FAA is issuing this AD to address the possibility of undetected corrosion due to landing gear age that could lead to main landing gear (MLG) and/or nose landing gear (NLG) collapse, and consequent damage to the airplane and injury to the occupants.

(f) Compliance

Comply with this AD within the compliance times specified, unless already done.

(g) Determination of Component Calendar Age

Within 90 days after the effective date of this AD: Verify the airplane and/or the airplane technical records to determine whether any MLG and NLG components are affected components based on their calendar age, in accordance with Section 2, Part A, of the Accomplishment Instructions of MHI RJ Service Bulletin (SB) 670BA-32-062, Revision A, dated December 2, 2021.

(h) Removal and Replacement of Affected NLG Components

(1) Within the applicable compliance time indicated in figure 1 to paragraph (h) of this AD: Remove the affected NLG components identified in paragraph (g) of this AD in accordance with Section 2, Part B, of the Accomplishment Instructions of MHI RJ SB 670BA-32-062, Revision A, dated December 2, 2021.

(2) Before further flight after removal of the affected components, replace the removed components with serviceable components, in accordance with Section 2, Part D, of the Accomplishment Instructions of MHI RJ SB 670BA-32-062, Revision A, dated December 2, 2021.

(i) Removal and Replacement of Affected MLG Components

(1) Within the applicable compliance time indicated in figure 1 to paragraph (h) of this AD: Remove the affected MLG components identified in paragraph (g) of this AD in accordance with Section 2 Part E or H, as applicable, of the Accomplishment Instructions of MHI RJ SB 670BA-32-062, Revision A, dated December 2, 2021.

(2) Before further flight after removing the affected components, replace the removed components with serviceable components, in accordance with Section 2, Part G or J, as applicable, of the Accomplishment Instructions of MHI RJ SB 670BA-32-062, Revision A, dated December 2, 2021.

(k) Parts Installation Limitation

(1) As of the effective date of this AD, no person may install, on any airplane, any MLG or NLG component with a calendar age of 12 years or more unless it has been overhauled in accordance with Section 2 Part C, F, or I, as applicable, of the Accomplishment Instructions of MHI RJ SB 670BA-32-062, Revision A, dated December 2, 2021.

(2) As of the effective date of this AD, any MLG or NLG component with a calendar age of less than 12 years may be installed on any airplane, provided it is overhauled in accordance with Section 2 Part C, F, or I, as applicable, of the Accomplishment Instructions of MHI RJ SB 670BA-32-062, Revision A, dated December 2, 2021, prior to reaching 12 years' component calendar age.

(l) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada Civil Aviation (TCCA); or MHI RJ Aviation ULC's TCCA Design Approval Organization (DAO). If approved by the DAO, the approval must include the DAO-authorized signature.

(m) Related Information

(1) Refer to Mandatory Continuing Airworthiness Information (MCAI) TCCA AD CF-2021-49, dated December 20, 2021, for related information. This MCAI may be found in the AD docket on the internet at https://www.regulations.gov by searching for and locating Docket No. FAA-2022-0885.

(2) For more information about this AD, contact Antariksh Shetty, Aerospace Engineer, Airframe and Propulsion Section, FAA, New York ACO Branch, 1600 Stewart Avenue, Suite 410, Westbury, NY 11590; telephone 516-228-7300; email 9-avs-nyaco-cos@faa.gov.

(3) For service information identified in this AD, contact MHI RJ Aviation Group, Customer Response Center, 3655 Ave. des Grandes-Tourelles, Suite 110, Boisbriand, Québec J7H 0E2 Canada; North America toll-free telephone 833-990-7272 or direct-dial telephone 450-990-7272; fax 514-855-8501; email thd.crj@mhirj.com; internet https://mhirj.com. You may view this service information at the FAA, Airworthiness Products Section, Operational Safety Branch, 2200 South 216th St., Des Moines, WA. For information on the availability of this material at the FAA, call 206-231-3195.

Issued on July 15, 2022.
Gaetano A. Sciortino,
Deputy Director for Strategic Initiatives, Compliance & Airworthiness Division, Aircraft Certification Service.

[FR Doc. 2022-15558 Filed 7-20-22; 8:45 am]

BILLING CODE 4910-13-P